DEPARTMENT OF AGRICULTURE

Animal and Plant Health Inspection Service

7 CFR Part 301

[Docket No. APHIS-2007-0072]

Black Stem Rust; Addition of Rust-Resistant Varieties; Correction

AGENCY: Animal and Plant Health Inspection Service, USDA.

ACTION: Direct final rule; correction.

SUMMARY: We are correcting an error in the amendatory instructions in our direct final rule that added four varieties to the list of rust-resistant Berberis species or cultivars in the black stem rust quarantine and regulations. The direct final rule was published in the Federal Register on June 12, 2007 (72 FR 32165-32167, Docket No. APHIS-2007-0072) and became effective on August 13, 2007.

DATES: Effective Date: December 20, 2007.

FOR FURTHER INFORMATION CONTACT: Dr. Vedpal Malik, Agriculturalist, Invasive Species and Pest Management, PPQ, APHIS, 4700 River Road, Unit 134, Riverdale, MD 20737-1236; (301) 734-6774.

SUPPLEMENTARY INFORMATION: In a direct final rule published in the Federal Register on June 12, 2007 (72 FR 32165-32167, Docket No. APHIS-2007-0072) and effective on August 13, 2007, we amended the black stem rust quarantine and regulations in 7 CFR part 301 by adding four varieties to the list of rust-resistant Berberis species or cultivars in § 301.38-2 of the regulations.

In the amendatory instructions we stated that we were amending paragraph (b) of § 301.38-2 in order to add the four varieties to the list of rust-resistant Berberis species or cultivars. However, this was incorrect. We should have stated that we were amending paragraph (a)(1) of § 301.38-2. This document corrects that error.

List of Subjects in 7 CFR Part 301

Agricultural commodities, Plant diseases and pests, Quarantine, Reporting and recordkeeping requirements, Transportation.

Accordingly, 7 CFR part 301 is amended as follows:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

2. In § 301.38-2, paragraph (a)(1) is amended by adding, in alphabetical order, the following rust-resistant Berberis species:

§ 301.38-2 Regulated articles.

(a) * * *

(1) * * *

* * * * *

B. thunbergii atropurpurea ‘Moretti Select'

* * * * *

B. thunbergii ‘Fireball'

* * * * *

B. thunbergii ‘Orange Rocket'

* * * * *

B. thunbergii ‘Sparkler'

* * * * *

Done in Washington, DC, this 14th day of December 2007.
Kevin Shea,
Acting Administrator, Animal and Plant Health Inspection Service.

[FR Doc. E7-24678 Filed 12-19-07; 8:45 am]

BILLING CODE 3410-34-P